DEPARTMENT OF COMMERCE

Foreign-Trade Zones Board

[S-220-2019]

Approval of Subzone Status; The Lobster Trap Co.; Bourne, Massachusetts

On October 29, 2019, the Executive Secretary of the Foreign-Trade Zones (FTZ) Board docketed an application submitted by the City of New Bedford, grantee of FTZ 28, requesting subzone status subject to the existing activation limit of FTZ 28, on behalf of The Lobster Trap Co., in Bourne, Massachusetts.

The application was processed in accordance with the FTZ Act and Regulations, including notice in the Federal Register inviting public comment (84 FR 59351, November 4, 2019). The FTZ staff examiner reviewed the application and determined that it meets the criteria for approval. Pursuant to the authority delegated to the FTZ Board Executive Secretary (15 CFR 400.36(f)), the application to establish Subzone 28H was approved on December 23, 2019, subject to the FTZ Act and the Board's regulations, including Section 400.13, and further subject to FTZ 28's 22.5-acre activation limit.

Dated: December 23, 2019.
Andrew McGilvray,
Executive Secretary.

[FR Doc. 2019-28226 Filed 12-30-19; 8:45 am]

BILLING CODE 3510-DS-P